DEPARTMENT OF THE INTERIOR

Bureau of Land Management

[ID-076-1430-ES—IDI-34292]

Notice of Realty Action; Recreation and Public Purposes (R&PP) Act Classification; Idaho

AGENCY: Bureau of Land Management, Interior.

ACTION: Notice of realty action.

SUMMARY: Jerome County, Idaho has applied for an R&PP lease on public lands along the north rim of the Snake River Canyon for recreation purposes, including kiosks, staging areas, equestrian, motorized and non-motorized, and pedestrian trails. The land would be developed through partnerships with recreation groups and organizations.

FOR FURTHER INFORMATION CONTACT: Bill Baker, at (208) 732-7200.

SUPPLEMENTARY INFORMATION: The following public lands near the community of Jerome, Jerome County, Idaho have been examined and found suitable for classification for lease to Jerome County, Idaho under the provisions of the Recreation and Public Purposes Act, as amended (43 U.S.C. 869 et seq.):

Boise Meridian

(Those portions south of Interstate 84.)

T. 9 S., R. 17 E.,

Sec. 14: S1/2SW;

Sec. 15: SW, SWNW;

Sec. 19: Lots 2, 8, 9, SENW;

Sec. 20: N1/2SE;

Sec. 21: E1/2, E1/2W1/2, SWNW, SW;

Sec. 22: W1/2, W1/2SWSE, W1/2E1/2SWSE, NWSE, SWNE, W1/2W1/2SENE, N1/2NE;

Sec. 23: All;

Sec. 24: S1/2SE, N1/2SE;

Sec. 25: All;

Sec. 26: All;

Sec. 28: NENW, N1/2NE, SENE;

Sec. 36: Lot 15.

T. 9 S., R. 18 E.,

Sec. 19: Lots 3, 4, E1/2SW, S1/2SE;

Sec. 28: SW, SWSE;

Sec. 29: S1/2, S1/2NE, NW;

Sec. 30: Lots 1-4, E1/2W1/2, E1/2;

Sec. 31: Lots 1, 4, 5, N1/2NE, NENW;

Sec. 32: Lot 5, N1/2N1/2;

Sec. 33: Lot 1, N1/2, N1/2S1/2, S1/2SE, SESW;

Sec. 34: N1/2SW, SWNW.

T. 10 S., R. 18 E.,

Sec. 3: Lots 4, 5, 8;

Sec. 4: Lots 1, 2;

Sec. 10: Lots 1, 2;

Sec. 11: Lots 1, 2, 5, 6;

Sec. 12: Lot 3.

Containing approximately 6,590 acres.

An R&PP lease is consistent with current BLM land use planning and would be in the public interest. The lease, when issued, will be subject to the following terms and conditions:

1. Provisions of the Recreation and Public Purposes Act and to all applicable regulations of the Secretary of the Interior.

2. Any other conditions that the authorized officer determines appropriate to ensure public access and proper management of Federal lands and interests therein.

3. All authorized uses and designations will continue to be administered by the Bureau. Detailed information concerning this action is available for review at the office of the Bureau of Land Management, Upper Snake River District, Shoshone Field Office, and 400 West F Street, Shoshone, Idaho 83352.

Upon publication of this notice in the Federal Register, the lands will be segregated from all other forms of appropriation under the public land laws, including the general mining laws, except for lease under the Recreation and Public Purposes Act. For a period until February 2, 2004, interested persons may submit comments regarding the proposed classification of the lands to the Field Manager; Shoshone Field Office, 400 West F Street, Shoshone, Idaho 83352.

Classification Comments: Interested parties may submit comments involving the suitability of the land for recreation use. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for recreation.

Any adverse comments will be reviewed by the State Director. In the absence of any adverse comments, the classification will become effective February 17, 2004.

Dated: October 20, 2003.
Joe Kraayenbrink,
Acting District Manager.

[FR Doc. 03-31122 Filed 12-16-03; 8:45 am]

BILLING CODE 4310-GG-P